DEPARTMENT OF COMMERCE

Foreign-Trade Zones Board

[Docket 7-2001]

Foreign-Trade Zone 129—Bellingham, Washington; Proposed Foreign-Trade Subzone; ARCO Products Company (Oil Refinery Complex); Bellingham, Washington, Area

An application has been submitted to the Foreign-Trade Zones Board (the Board) by the Board of Commissioners of the Port of Bellingham, grantee of FTZ 129, requesting special-purpose subzone status for the oil refinery complex of Atlantic Richfield Company (ARCO), a wholly-owned subsidiary of BP America, located in the Bellingham, Washington, area. The application was submitted pursuant to the provisions of the Foreign-Trade Zones Act, as amended (19 U.S.C. 81a-81u), and the regulations of the Board (15 CFR part 400). It was formally filed on January 25, 2001.

The ARCO “Cherry Point” refinery complex (223,000 BPD refinery, 66 tanks with over 7 million barrel capacity, 3,600 acres) is located at 4519 Grandview Road, near Cherry Point (Whatcom County), Washington, some 15 miles northwest of Bellingham. The refinery (440 employees) is used to produce fuels and petrochemical feedstocks. Fuel products include gasoline, jet fuel, distillates, residual fuels, naphthas and motor fuel blendstocks. Petrochemical feedstocks and refinery by-products include liquified petroleum gases, petroleum coke and sulfur. Some 8 percent of the crude oil (nearly all of inputs) is sourced abroad. The application also indicates that the company may in the future import under FTZ procedures some naphthas, virgin gas oil, natural gas condensate, and motor fuel blendstocks.

Zone procedures would exempt the refinery from Customs duty payments on the foreign products used in its exports. On domestic sales, the company would be able to choose the Customs duty rates that apply to certain petrochemical feedstocks and refinery by-products (duty-free) by admitting certain incoming foreign crude oil in non-privileged foreign status. The duty rates on inputs range from 5.25¢/barrel to 10.5¢/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below.

The closing period for their receipt is April 6, 2001. Rebuttal comments in response to material submitted during the foregoing period may be submitted during the subsequent 15-day period (to April 23, 2001).

A copy of the application and accompanying exhibits will be available for public inspection at each of the following locations:

Port of Bellingham, Harbor Center Building, 1801 Roeder Avenue, Bellingham, Washington 98227-1677

Office of the Executive Secretary, Foreign-Trade Zones Board, Room 4008, U.S. Department of Commerce, 14th & Pennsylvania Avenue, NW, Washington, DC 20230.

Dated: January 25, 2001.
Dennis Puccinelli,
Executive Secretary.

[FR Doc. 01-2897 Filed 2-2-01; 8:45 am]

BILLING CODE 3510-DS-P